DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 13, 2009.

Interested persons are invited to submit written comments regarding the subject matter of the investigations to the Director, Division of Trade Adjustment Assistance, at the address shown below, not later than March 13, 2009.

The petitions filed in this case are available for inspection at the Office of the Director, Division of Trade Adjustment Assistance, Employment and Training Administration, U.S. Department of Labor, Room N-5428, 200 Constitution Avenue, NW., Washington, DC 20210.

Signed at Washington, DC, this 20th day of February 2009.
Linda G. Poole,
Certifying Officer, Division of Trade Adjustment Assistance.

Appendix—110 TAA Petitions Instituted Between 2/2/09 and 2/6/09
TA-W | Subject firm (Petitioners) | Location | Date of institution | Date of petition
65056 | BIE Aerospace, Inc., FSI (Wkrs) | Marysville, WA | 02/02/09 | 01/02/09
65057 | Dana Holding Corporation, Sealing products Group (Comp) | McKenzie, TN | 02/02/09 | 01/30/09
65058 | Swan Finishing Company, Inc. (UNITE) | Fall River, MA | 02/02/09 | 01/21/09
65059 | Core Molding Technologies (Wkrs) | Colombus, OH | 02/02/09 | 01/26/09
65060 | International Automotive Components (Comp) | Sidney, OH | 02/02/09 | 02/01/09
65061 | Gemeinhardt, LLC (IBT) | Elkhart, IN | 02/02/09 | 01/29/09
65062 | Sequa Coatings, dba Precoat Metals (Wkrs) | McKeesport, PA | 02/02/09 | 01/29/09
65063 | Stabilus, Inc. (State) | Gastonia, NC | 02/02/09 | 01/23/09
65064 | Cypress Semiconductor Corporation (83704) | Boise, ID | 02/02/09 | 01/30/09
65065 | Yazaki North America (Wkrs) | Canton, MI | 02/02/09 | 01/30/09
65066 | Maxim Integrated Products (Comp) | Beaverton, OR | 02/02/09 | 01/30/09
65067 | Lite-Foot Hosiery, Inc. (Comp) | Fort Payne, AL | 02/02/09 | 01/30/09
65068 | Littlefuse, Inc. (State) | Arcola, IL | 02/02/09 | 01/30/09
65069 | PVH Superba/Insignia Neckwear, Inc. (Comp) | Los Angeles, CA | 02/02/09 | 01/30/09
65070 | Seco-Warwick Corporation (Wkrs) | Meadville, PA | 02/02/09 | 01/29/09
65071 | Frito Lay/Pepsi Co (Comp) | San Antonio, TX | 02/02/09 | 01/05/09
65072 | Eaton Hydraulics (Wkrs) | Greenwood, SC | 02/02/09 | 01/30/09
65073 | Yorktowne Cabinetry (Wkrs) | Mifflinburg, PA | 02/02/09 | 01/23/09
65074 | Dynamerica Manufacturing, LLC (Wkrs) | West Milton, OH | 02/02/09 | 01/29/09
65075 | Senco Products, Inc. (Comp) | Cincinnati, OH | 02/02/09 | 01/30/09
65076 | Pentair Water (Wkrs) | Delavan, WI | 02/02/09 | 01/15/09
65077 | Canesville Acoustics (Wkrs) | Norwalk, OH | 02/02/09 | 01/26/09
65078 | Thomas Lighting (Wkrs) | Hopkinsville, KY | 02/02/09 | 01/30/09
65079 | Bowser Manufacturing Co., Inc. (Wkrs) | Montoursville, PA | 02/02/09 | 01/28/09
65080 | Santoku America, Inc. (Comp) | Tolleson, AZ | 02/02/09 | 01/26/09
65081 | LeSueur, Inc. (State) | LeSueur, MN | 02/03/09 | 02/02/09
65082 | Panel Crafters, Inc. (97503) | White City, OR | 02/03/09 | 01/30/09
65083 | HDM Showroom and Office (Comp) | High Point, NC | 02/03/09 | 02/02/09
65084 | Modine Manufacturing (Union) | Pemberville, OH | 02/03/09 | 02/02/09
65085 | Colorite Specialty Resins (USW) | Burlington, NJ | 02/03/09 | 01/30/09
65086 | Penn Racquet Sports, Inc. (State) | Phoenix, AZ | 02/03/09 | 02/02/09
65087 | Industrial Minerals, Inc. (Wkrs) | Blacksburg, SC | 02/03/09 | 01/28/09
65088 | Snoke Special Products Co., Inc. (Comp) | Jacksonville, TX | 02/03/09 | 02/02/09
65089 | Brunswick (Lund Crestliner) (State) | Little Falls, MN | 02/03/09 | 02/02/09
65090 | eGene, Inc. (Wkrs) | Irvine, CA | 02/03/09 | 01/09/09
65091 | WestPoint Home/Calhoun Falls Plant (29628) | Calhoun Falls, SC | 02/03/09 | 02/02/09
65092 | Detroit Diesel Specialty Tool Co. (Comp) | Cambridge, OH | 02/03/09 | 02/02/09
65093 | GKN (Comp) | Salem, IN | 02/03/09 | 02/02/09
65094 | Plastic Packaging, Inc. (Wkrs) | Aberdeen, NC | 02/03/09 | 01/15/09
65095 | Commercial Carving Company (Comp) | Thomasville, NC | 02/03/09 | 02/02/09
65096 | Tyco Electronics (Rep) | Emigsville, PA | 02/03/09 | 02/02/09
65097 | Admart Custom Signage (Wkrs) | Danville, KY | 02/03/09 | 02/02/09
65098 | Lineage Power Corporation (Comp) | Mesquite, TX | 02/03/09 | 02/02/09
65099 | McMurray Fabrics, Inc. (Wkrs) | Aberdeen, NC | 02/03/09 | 01/08/09
65100 | Kimball Electronics, Inc. (Comp) | Jasper, IN | 02/04/09 | 02/02/09
65101 | Kelsey Hayes Company (Comp) | Fowlerville, MI | 02/04/09 | 02/03/09
65102 | Kelsey Hayes Company (Comp) | Fenton, MI | 02/04/09 | 02/03/09
65103 | Dan Drexlmaier (Wkrs) | Duncan, SC | 02/04/09 | 01/29/09
65104 | Spectrum Industrial Services, Inc. (State) | Minneapolis, MN | 02/04/09 | 01/29/09
65105 | Safer Holding Corporation (Comp) | Newark, NJ | 02/04/09 | 02/03/09
65106 | Wilson Sporting Goods (Wkrs) | Sparta, TN | 02/04/09 | 01/26/09
65107 | Hol-Mac Corporation (Comp) | Bay Springs, MS | 02/04/09 | 02/03/09
65108 | Ingersoll Rand/Trans La Crosse (IAMAW) | La Crosse, WI | 02/04/09 | 02/02/09
65109 | Fortis Plastics, LLC (State) | Fort Smith, AR | 02/04/09 | 02/03/09
65110 | Keystone Powdered Metal Company (Comp) | St. Marys, PA | 02/04/09 | 02/02/09
65111 | BASF Corporation (Wkrs) | Wilmington, NC | 02/04/09 | 02/03/09
65112 | Vesuvius USA—Fisher IL Manufacturing Facility (Comp) | Fisher, IL | 02/04/09 | 02/03/09
65113 | Maine Woods Company, LLC (Comp) | Portage Lake, ME | 02/04/09 | 01/29/09
65114 | SPS Technology (Wkrs) | Waterford, MI | 02/04/09 | 02/03/09
65115 | TLD Ace Corporation (State) | Windsor, CT | 02/04/09 | 02/03/09
65116 | Oak Lawn Packaging, Inc. (Comp) | Fort Smith, AR | 02/04/09 | 02/03/09
65117 | Sonoco CIN-Made (USW) | Cincinnati, OH | 02/04/09 | 01/21/09
65118 | Vanity Fair Brands Knitting Facility (Comp) | Jackson, AL | 02/04/09 | 01/29/09
65119 | Whatman (State) | Sanford, ME | 02/04/09 | 02/03/09
65120 | Santee Print Works (Comp) | Sumter, SC | 02/04/09 | 02/03/09
65121 | Custom Screens, Inc. (Comp) | Madison, NC | 02/04/09 | 02/03/09
65122 | Greenbrier Rail Service (Wkrs) | Chicago Heights, IL | 02/04/09 | 02/02/09
65123 | Keytronic (Wkrs) | Spokane Valley, WA | 02/04/09 | 01/28/09
65124 | Stanley Works (State) | New Britain, CT | 02/04/09 | 02/03/09
65125 | RMKI (Wkrs) | Rochester Hills, MI | 02/04/09 | 01/20/09
65126 | Regal Beliot (MO) | Lebanon, MO | 02/04/09 | 02/02/09
65127 | MWV Calmar (Union) | Washington Courthouse, OH | 02/04/09 | 02/02/09
65128 | Longview Fibre Paper and Packaging, Inc. (Wkrs) | Twin Falls, ID | 02/05/09 | 01/19/09
65129 | Wilson-Hurd Manufacturing Co. (Wkrs) | Berlin, WI | 02/05/09 | 02/04/09
65130 | Leggett and Platt, Inc. (Comp) | Simpsonville, KY | 02/05/09 | 01/13/09
65131 | Circuit City Stores (Wkrs) | Muncy, PA | 02/05/09 | 02/04/09
65132 | Blount, Inc. (Comp) | Milwaukie, OR | 02/05/09 | 02/04/09
65133 | Chromalox/Odgen Manufacturing Company (Comp) | Edinboro, PA | 02/05/09 | 02/04/09
65134 | Key Safety Restraint Systems (Comp) | Knoxville, TN | 02/05/09 | 02/03/09
65135 | Leggett & Platt (Comp) | Ennis, TX | 02/05/09 | 02/04/09
65136 | Cummins Power Generation (State) | Fridley, MN | 02/05/09 | 02/05/09
65137 | New Page Corporation/Rumford Paper Co. (IBB) | Rumford, ME | 02/05/09 | 02/04/09
65138 | Sierra Pine Rocklin (Comp) | Rocklin, CA | 02/05/09 | 02/04/09
65139 | Weather Shield Manufacturing, Inc. (Wkrs) | Medford, WI | 02/05/09 | 01/28/09
65140 | Fred Whitaker Company (Comp) | Roanoke, VA | 02/05/09 | 02/04/09
65141 | Seagate Technology (State) | Bloomington, MN | 02/05/09 | 02/04/09
65142 | Nylon Craft of Michigan (Comp) | Jonesville, MI | 02/05/09 | 01/29/09
65143 | Goulds Pumps/ITT Industries (3561) | Ashland, PA | 02/05/09 | 01/21/09
65144 | Delphi Corporation,Electronic & Safety Division (Wkrs) | Auburn Hills, MI | 02/05/09 | 01/29/09
65145 | Hubbell Power Systems, Inc. (Wkrs) | Centralia, MO | 02/05/09 | 01/23/09
65146 | Computer Aid, Inc. (Wkrs) | Allentown, PA | 02/05/09 | 01/26/09
65147 | Bradington-Young, LLC (Wkrs) | Woodleaf, NC | 02/06/09 | 02/05/09
65148 | W. Y. Shugart & Sons, Inc. (Comp) | Fort Payne, AL | 02/06/09 | 02/05/09
65149 | HDM/Drexel Plant #7 (Comp) | Hickory, NC | 02/06/09 | 02/02/09
65150 | Electrolux Central Vaccum Systems (Comp) | Webster City, IA | 02/06/09 | 02/05/09
65151 | Illume, aka Starlume (Comp) | Bloomington, MN | 02/06/09 | 02/04/09
65152 | CCL Container (Comp) | Hermitage, PA | 02/06/09 | 02/05/09
65153 | Rockwell Automation (Wkrs) | Richland Center, WI | 02/06/09 | 02/05/09
65154 | CME, LLC (Wkrs) | Mt. Pleasant, MI | 02/06/09 | 02/05/09
65155 | Bledsoe Construction, Inc. (Comp) | Boise, ID | 02/06/09 | 02/05/09
65156 | Friction, LLC (Comp) | Greenwood, MS | 02/06/09 | 02/06/09
65157 | Alcoa, Tennessee Operations (AFLCIO) | Alcoa, TN | 02/06/09 | 02/05/09
65158 | Gulistan Carpet (Comp) | Aberdeen, NC | 02/06/09 | 02/05/09
65159 | Chrysler Sterling Heights Assembly Plant (UAW) | Sterling Heights, MI | 02/06/09 | 02/04/09
65160 | Hutchinson Technology, Inc. (State) | Hutchinson, MN | 02/06/09 | 02/05/09
65161 | TG Missouri Corporation (Comp) | Perryville, MO | 02/06/09 | 02/05/09
65162 | Dana Holding Corporation (AFLCIO) | Humboldt, TN | 02/06/09 | 02/05/09

[FR Doc. E9-4386 Filed 3-2-09; 8:45 am]

BILLING CODE 4510-FN-P